DEPARTMENT OF COMMERCE

International Trade Administration

[A-552-802]

Certain Frozen Warmwater Shrimp From the Socialist Republic of Vietnam: Rescission of Antidumping Duty Administrative Review; 2019-2020

AGENCY: Enforcement and Compliance, International Trade Administration, Department of Commerce.

SUMMARY: The Department of Commerce (Commerce) is rescinding the administrative review of the antidumping duty order on certain frozen warmwater shrimp from the Socialist Republic of Vietnam (Vietnam) for the period February 1, 2019 through January 31, 2020.

DATES: Applicable May 11, 2020.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On April 8, 2020, Commerce published in the Federal Register a notice of initiation of an administrative review of the antidumping duty order on certain frozen warmwater shrimp from Vietnam covering the period February 1, 2019 through January 31, 2020.¹ Commerce initiated the administrative review for a single exporter, Blue Bay Seafood Co., Ltd., based on timely requests for review filed by Blue Bay Seafood Co., Ltd., Ad Hoc Shrimp Trade Action Committee (the petitioner), and the American Shrimp Processors Association (ASPA).²

¹ See Initiation of Antidumping and Countervailing Duty Administrative Reviews, 84 FR 18777 (May 2, 2019) (Initiation Notice).

² See ASPA Letter, “Request for Administrative Reviews,” dated February 27, 2020; Petitioner Letter, “Request for Administrative Reviews,” dated February 28, 2020; and Blue Bay Seafood Co., Ltd. Letter, “Request for Antidumping Duty Administrative Review,” dated February 28, 2020.

On April 27, 2020, Blue Bay Seafood Co., Ltd. withdrew its request for review.³ On May 1, 2020, the petitioner and ASPA withdrew their respective requests for review of Blue Bay Seafood Co., Ltd.⁴ Thus, all review requests for the only company under review have been timely withdrawn.

³ See Blue Bay Seafood Co., Ltd. Letter, “Withdrawal of Review Request,” dated April 27, 2020.

⁴ See Petitioner Letter, “Withdrawal of Review Request,” dated May 1, 2020; and ASPA Letter, “Withdrawal of Review Request for Blue Bay,” dated May 1, 2020.

Rescission of Review

Pursuant to 19 CFR 351.213(d)(1), Commerce will rescind an administrative review, in whole or in part, if the party that requested the review withdraws its request within 90 days of the publication of the notice of initiation of the requested review. The petitioner, ASPA, and Blue Bay Seafood Co., Ltd. withdrew their requests for administrative review within 90 days of the date of publication of the Initiation Notice, and no other interested party requested a review of Blue Bay Seafood Co., Ltd. Therefore, in accordance with 19 CFR 351.213(d)(1), Commerce is rescinding this review, in its entirety.

Assessment

Commerce will instruct U.S. Customs and Border Protection (CBP) to assess antidumping duties on all appropriate entries at a rate equal to the cash deposit of estimated antidumping duties required at the time of entry, or withdrawal from warehouse, for consumption, during the period February 1, 2019, through January 31, 2020, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protection Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: May 5, 2020.
James Maeder,
Deputy Assistant Secretary for Antidumping and Countervailing Duty Operations.

[FR Doc. 2020-09973 Filed 5-8-20; 8:45 am]

BILLING CODE 3510-DS-P